DEPARTMENT OF COMMERCE

International Trade Administration

[A-122-852]

Notice of Extension of the Deadline for Determining the Adequacy of the Antidumping Duty Petition: Liquid Sulfur Dioxide from Canada

AGENCY: Import Administration, International Trade Administration, Department of Commerce.

EFFECTIVE DATE: October 27, 2005.

FOR FURTHER INFORMATION CONTACT: Kate Johnson or Rebecca Trainor, AD/CVD Operations, Import Administration, International Trade Administration, U.S. Department of Commerce, 14th Street and Constitution Avenue, NW, Washington, DC 20230; telephone: (202) 482-4929 and (202) 482-4007, respectively.

Initiation of Investigation

The Petition

On September 30, 2005, the Department of Commerce (“Department”) received an antidumping duty petition (“Petition”) filed by Calabrian Corporation (“Petitioner”) on behalf of the domestic industry producing liquid sulfur dioxide.

Scope of the Petition

The product covered by this petition is technical or commercial grade and refrigeration grade liquid sulfur dioxide of a minimum 99.98 percent assay. Sulfur dioxide is identified by the chemical formula SO2. The CAS No. for sulfur dioxide is 7446-09-5. Liquid sulfur dioxide is pure sulfur dioxide gas compressed through refrigeration and stored under pressure. Sulfur dioxide in its gaseous state is excluded from the petition.

Liquid sulfur dioxide subject to this petition is currently classifiable under subheading 2811.23.00 of the Harmonized Tariff Schedule of the United States (“HTSUS”). While the HTSUS subheading is provided for convenience and Customs purposes, the written description of the scope of this petition is dispositive.

Determination of Industry Support for the Petition

Section 732(b)(1) of the Tariff Act of 1930, as amended (“the Act”) requires that a petition be filed by or on behalf of the domestic industry. Section 732(c)(4)(A) of the Act provides that the Department's industry support determination be based on whether a minimum percentage of the relevant industry supports the petition. A petition meets this requirement if the domestic producers or workers who support the petition account for: (i) at least 25 percent of the total production of the domestic like product; and (ii) more than 50 percent of the production of the domestic like product produced by that portion of the industry expressing support for, or opposition to, the petition. Moreover, section 732(c)(4)(D) of the Act provides that, if the petition does not establish support of domestic producers or workers accounting for more than 50 percent of the total production of the domestic like product, the Department shall: (i) poll the industry or rely on other information in order to determine if there is support for the petition, as required by subparagraph (A), or (ii) if there is a large number of producers, determine industry support using a statistically valid sampling method to poll the industry.

Extension of Time

Section 732(c)(1)(A)(ii) of the Act provides that within 20 days of the filing of an antidumping duty petition, the Department will determine, inter alia, whether the petition has been filed by or on behalf of the U.S. industry producing the domestic like product. Section 732(c)(1)(B) of the Act provides that the deadline for the initiation determination can be extended by 20 days in any case in which the Department must “poll or otherwise determine support for the petition by the industry . . .” Because it is not clear from the petition whether the industry support criteria have been met, we have determined to extend the time for initiating an investigation in order to poll the domestic industry. On October 7, 2005, we issued polling questionnaires to all known domestic producers of liquid sulfur dioxide identified in the petition. On October 12, 2005, we sent a letter to the domestic producers transmitting revised scope language provided by the petitioner on October 11, 2005. The questionnaires are on file in the Central Records Unit in room B-099 of the main Department of Commerce building. We requested that each company complete the polling questionnaire and fax their responses to the Department.

We will need additional time to analyze the domestic producers' responses to our request for information. See the “Determination of Industry Support for the Petition” section of this notice, above. Therefore, it is necessary to extend the deadline determining the adequacy of the petition for a period not to exceed 40 days from the filing of the petition. As a result, the initiation determination is due no later than November 9, 2005.

International Trade Commission Notification

Because the Department has extended the deadline of the initiation determination, the Department will contact the International Trade Commission (“ITC”) and will make this extension notice available to the ITC.

Dated: October 20, 2005.
Joseph A. Spetrini,
Acting Assistant Secretary for Import Administration.

[FR Doc. E5-5965 File 10-26-05;8:45 am]

BILLING CODE 3510-DS-S